DEPARTMENT OF THE TREASURY

Privacy Act of 1974; Amended System of Records

AGENCY: Financial Management Service, Treasury.

ACTION: Notice of amendment to system of records.

SUMMARY: In accordance with the Privacy Act of 1974, as amended, the Financial Management Service gives notice of a proposed amendment to its Privacy Act system of records entitled “Treasury/FMS .006—Direct Deposit Enrollment Records—Treasury/Financial Management Service.”

DATES: Comments must be received no later than August 18, 2011. The proposed new system of records will become effective August 29, 2011 unless comments are received that would result in a contrary determination.

ADDRESSES: You should send your comments to Peter Genova, Deputy Chief Information Officer, Financial Management Service, 401 14th Street, SW., Washington, DC 20227. Comments received will be available for inspection at the same address between the hours of 9 a.m. and 4 p.m. Monday through Friday. You may send your comments by electronic mail to peter.genova@fms.treas.gov or http://www.regulations.gov. All comments, including attachments and other supporting materials, received are subject to public disclosure. You should submit only information that you wish to make available publicly.

FOR FURTHER INFORMATION CONTACT: Peter Genova, Deputy Chief Information Officer, (202) 874-1736.

SUPPLEMENTARY INFORMATION: Pursuant to the provisions of the Privacy Act of 1974, as amended, 5 U.S.C. 552a, notice is given that the Financial Management Service (FMS), a bureau of the Department of the Treasury (Treasury), proposes to amend its system of records entitled “Direct Deposit Enrollment Records—Treasury/Financial Management Service” (Treasury/FMS .006). FMS is adding additional categories of records in the system and is amending its routine uses to allow for the processing of waivers related to the requirement that all Federal payments, other than tax payments, be made electronically. On December 22, 2010, FMS published an amendment to its regulation at 31 CFR part 208 (Part 208) (see, 75 FR 80315), which implements 31 U.S.C. 3332 (Section 3332). Section 3332 generally requires that all Federal payments, other than tax payments, be made by electronic funds transfer (EFT), unless waived by the Secretary of the Treasury. Direct deposit is the primary method used to make EFT Federal payments to individuals.

Part 208 requires recipients of Federal payments, other than tax payments, to receive payment by EFT, effective May 1, 2011. The effective date is delayed until March 1, 2013, for individuals receiving Federal payments by check on May 1, 2011; and for individuals who file claims for Federal benefits before May 1, 2011 and request check payments when they file. Individuals who do not choose direct deposit of their payments to an account at a financial institution will be enrolled in the Direct Express® Debit MasterCard® card ¹ program, a prepaid card program established pursuant to terms and conditions approved by FMS. Treasury waives the EFT requirement for recipients born prior to May 1, 1921, who are receiving payments by paper check on March 1, 2013; for payments not eligible for deposit to a Direct Express® prepaid card account; and for recipients whose Direct Express® card has been suspended or cancelled. In addition, payment recipients may request a waiver if the EFT requirement creates a hardship due to his or her mental impairment or remote geographic location.

¹ Direct Express® is a registered service mark of the Financial Management Service, U.S. Department of the Treasury. The Direct Express® Debit MasterCard® card is issued by FMS's financial agent, Comerica Bank, pursuant to a license by MasterCard International Incorporated. MasterCard® and the MasterCard® Brand Mark are registered trademarks of MasterCard International Incorporated.

The proposed amendments to this system are necessary to process waivers of the EFT requirement. In some cases, FMS automatically applies the waivers based on information FMS will receive into its system of records from its own existing payment records, direct deposit enrollment records of its fiscal or financial agents and their contractors, or from Federal agencies. For example, FMS will receive information about a check payment recipient's date of birth from the Social Security Administration in order to apply the waiver from the EFT requirement for recipients born prior to May 1, 1921. FMS also will receive information from its financial agent when a Federal payment recipient's Direct Express® card has been suspended or cancelled by the financial agent (but not when the individual cancels his or her own card) in order to process the applicable automatic waiver.

For waivers based on a hardship due to a payment recipient's mental impairment or remote geographic location, individual payment recipients must submit an application to FMS, or its agent, to request the waiver. In these cases, individuals will voluntarily submit to FMS information already covered in the categories of records in the system, such as name, social security number, and home address. In addition, to claim a hardship based on mental impairment or geographic location, the individual will state that the waiver application is based on his or her inability to manage a bank account or prepaid debit card due to a mental impairment or remote geographic location.

Therefore, FMS is amending the paragraph under “Categories of records in the system” to add “date of birth” as an example of identifying information, and the following additional categories: “information related to the cancellation or suspension of an individual's Direct Express® debit card by FMS's financial agent” and “information provided by an individual due to a remote geographic location or about his or her inability to manage a bank account or prepaid debit card due to mental impairment.”

FMS also is amending the “Routine uses of records maintained in the system” section of its system of record revising routine use (4) to reflect the need to process waivers from the requirement to receive Federal payments electronically, as follows:

(4) Fiscal agents, financial agents, financial institutions, and contractors for the purposes of (a) Processing Direct Deposit enrollment applications, including, but not limited to, processing Direct Deposit enrollment forms and implementing programs related to Direct Deposit; investigating and rectifying possible erroneous information; creating and reviewing statistics to improve the quality of services provided; conducting debt collection services for debts arising from Direct Deposit activities; or developing, testing and enhancing computer systems; and (b) processing waivers from the requirement to receive payments electronically, including, but not limited to, processing automatic waivers and applications for waivers, as well as implementing the waivers; investigating and rectifying possible erroneous information or fraud; creating and reviewing statistics to improve the quality of services provided; or developing, testing and enhancing computer systems.

Finally, FMS is adding “Treasury financial agents” under the heading “Record source category” for information about the cancellation or suspension of a recipient's Direct Express® card by a financial agent. Without these amendments to its system of records, FMS, its fiscal agents and contractors, would not be able to process the waivers from the EFT requirements, as required under Part 208, and as requested by individuals.

FMS recognizes the sensitive nature of the confidential information it obtains when collecting financial institution account information from the public and has many safeguards in place to protect the information from theft or inadvertent disclosure. When appropriate, FMS's arrangements with its fiscal agents and contractors include requirements that preclude them from retaining, disclosing, and using the information for purposes other than the processing of waivers. In addition to various procedural and physical safeguards, access to computerized records is limited, through the use of access codes, encryption techniques and/or other internal mechanisms. Access to records is granted only as authorized by a business line manager at FMS or FMS's fiscal agent to those whose official duties require access solely for the purposes outlined in the proposed system. The amendments to the Direct Deposit Enrollment Records system will allow the public to obtain and seek waivers, as authorized by FMS's regulations.

The notice for the system of records was last published in its entirety on May 15, 2009, at 74 FR 23012.

The altered system of records report, as required by 5 U.S.C. 552a(r) of the Privacy Act, has been submitted to the Committee on Government Reform and Oversight of the House of Representatives, the Committee on Homeland Security and Governmental Affairs of the Senate and the Office of Management and Budget, pursuant to Appendix I to OMB Circular A-130, “Federal Agency Responsibilities for Maintaining Records About Individuals,” dated November 30, 2000.

For the reasons set forth in the preamble, FMS proposes to amend its system of records entitled “Direct Deposit Enrollment Records—Treasury/Financial Management Service” (Treasury/FMS .006), as follows:

Treasury/FMS .006

System name:

Direct Deposit Enrollment Records—Treasury/Financial Management Service.

* * * * *

Categories of records in the system:

Description of the change: Remove current entry and in its place add the following:

“The records may contain identifying information, such as an individual's name(s), social security number, home address, home and work telephone number, personal e-mail address (home and work), and date of birth; information about an individual's bank account(s) and other types of accounts to which payments are made, such as the individual's bank account number and the financial institution routing and transit number; information about an individual's payments received from the United States, including the type of payment received and the Federal agency responsible for authorizing the payment; information related to the cancellation or suspension of an individual's Direct Express® debit card ² by FMS's financial agent; and information provided by an individual regarding a hardship due to a remote geographic location or about his or her inability to manage a bank account or prepaid debit card due to mental impairment.”

² Direct Express® is a registered service mark of the Financial Management Service, U.S. Department of the Treasury. The Direct Express® debit card is issued by FMS's financial agent, Comerica Bank.

* * * * *

Routine uses of records maintained in the system, including categories of users and the purposes of such uses:

* * * * *

Description of the change: Remove current routine use (4) and in its place add the following: `(4) Fiscal agents, financial agents, financial institutions, and contractors for the purposes of (a) Processing Direct Deposit enrollment applications, including, but not limited to, processing Direct Deposit enrollment forms and implementing programs related to Direct Deposit; investigating and rectifying possible erroneous information; creating and reviewing statistics to improve the quality of services provided; conducting debt collection services for debts arising from Direct Deposit activities; or developing, testing and enhancing computer systems; and (b) processing waivers from the requirement to receive payments electronically, including, but not limited to, processing automatic waivers and applications for waivers, as well as implementing the waivers; investigating and rectifying possible erroneous information or fraud; creating and reviewing statistics to improve the quality of services provided; or developing, testing and enhancing computer systems.”

* * * * *

Record source categories:

Description of change: Remove current entry and in its place add the following: “Information in this system is provided by the individual on whom the record is maintained (or by his or her authorized representative), other persons who electronically authorize payments from the Federal government, Federal agencies responsible for authorizing payments, Federal agencies responsible for disbursing payments, Treasury financial agents, and Treasury fiscal agents that process Direct Deposit enrollment applications, and contractors.”

* * * * *

Dated: July 1, 2011.
Melissa Hartman,
Deputy Assistant Secretary for Privacy, Transparency, and Records.

[FR Doc. 2011-18207 Filed 7-18-11; 8:45 am]

BILLING CODE 4810-35-P